ENVIRONMENTAL PROTECTION AGENCY

40 CFR Parts 87 and 1068

[EPA-HQ-OAR-2014-0828; FRL-9931-43-OAR]

RIN 2060-AS31

Proposed Finding That Greenhouse Gas Emissions From Aircraft Cause or Contribute to Air Pollution That May Reasonably Be Anticipated To Endanger Public Health and Welfare and Advance Notice of Proposed Rulemaking; Notice of Updates to Public Hearing

AGENCY: Environmental Protection Agency (EPA).

ACTION: Updates to public hearing.

SUMMARY: The Environmental Protection Agency (EPA) published the Proposed Finding that Greenhouse Gas Emissions from Aircraft Cause or Contribute to Air Pollution that May Reasonably Be Anticipated to Endanger Public Health and Welfare and Advance Notice of Proposed Rulemaking in the Federal Register on July 1, 2015. This action provides notice of three updates regarding the public hearing.

DATES: The EPA will hold a public hearing on August 11, 2015 in Washington, DC starting at 10 a.m. local time.

ADDRESSES: The hearing will be held at the Headquarters office of the US EPA, the William Jefferson Clinton East Building, Room 1153, 1201 Constitution Avenue NW., Washington, DC 20004.

FOR FURTHER INFORMATION CONTACT: Ms. JoNell Iffland, Office of Transportation and Air Quality, Assessment and Standards Division (ASD), Environmental Protection Agency, 2000 Traverwood Drive, Ann Arbor, Michigan 48105, telephone number: (734) 214-4454, fax number: (734) 214-4816, email address: Iffland.jonell@epa.gov.

SUPPLEMENTARY INFORMATION: EPA published a proposed finding that greenhouse gas emissions from aircraft cause or contribute to air pollution that may reasonably be anticipated to endanger public health and welfare and an advance notice of proposed rulemaking regarding aircraft engine greenhouse gas emissions on July 1, 2015 (80 FR 37758). This action corrects a typographical error in the street address for the public hearing and provides notice of availability of a conference call-in number for the public to listen to the hearing. Additionally, this action provides notice that video recording will be allowed in the hearing room provided that it does not interfere with or interrupt the public hearing.

Updates

The DATES section of the proposed finding and advance notice of proposed rulemaking published in the Federal Register on July 1, 2015 (78 FR 37758), provided information on the public hearing. This action updates that information.

The EPA will hold a public hearing on August 11, 2015 in Washington, DC, at the William Jefferson Clinton East Building, Room 1153, 1201 Constitution Avenue NW., Washington, DC 20004. The EPA will provide the opportunity for the public to listen to the hearing through the following conference call-in line: 1-866-299-3188, conference code 1433527160. Please note that this conference line will allow the public to listen only; persons listening will not be able to give an oral presentation via the conference line.

Additionally, the proposed finding and advance notice of proposed rulemaking stated that no large signs will be allowed in the building, cameras may only be used outside of the building and demonstrations will not be allowed on federal property for security reasons. This update confirms that video recording will be allowed in the hearing room provided that it does not interfere with or interrupt the public hearing.

Dated: July 21, 2015.
Christopher Grundler,
Director, Office of Transportation and Air Quality, Office of Air and Radiation.

[FR Doc. 2015-18518 Filed 7-28-15; 8:45 am]

BILLING CODE 6560-50-P